DEPARTMENT OF THE INTERIOR

Bureau of Land Management

[CO-923-1430-ET; COC-70704]

Notice of Proposed Withdrawal and Opportunity for Public Meeting; Colorado

AGENCY: Bureau of Land Management, Interior.

ACTION: Notice.

SUMMARY: The Secretary of the Interior proposes to withdraw three small sites totaling 22.36 acres of public lands from surface entry and mining for a period of 20 years to protect maternity roosts of Townsend's Big-eared Bats in Mesa, Montrose, and San Miguel counties, Colorado. This notice segregates the public lands from surface entry and mining for up to 2 years while various studies and analyses are made to support a final decision on the withdrawal application.

DATES: Comments and requests for a public meeting must be received by May 24, 2007.

ADDRESSES: Comments and meeting requests should be sent to the Colorado State Director, 2850 Youngfield Street, Lakewood, Colorado 80215-7093.

FOR FURTHER INFORMATION CONTACT: Andrew J. Senti, BLM Colorado State Office, 303-239-3713.

SUPPLEMENTARY INFORMATION: The applicant is the Bureau of Land Management (BLM) at the address stated above. The petition/application requests the Secretary of the Interior to withdraw, for a period of 20 years and subject to valid existing rights, the following described public land from settlement, sale, location or entry under the general land laws, including mining laws, but not the mineral leasing laws:

New Mexico Principal Meridian

T. 47 N., R. 17 W.,

Sec. 11, a metes and bounds parcel within the NW¼NW¼.

T. 49 N., R. 17 W.,

Sec. 4, a metes and bounds parcel within the NE¼NW¼.

T. 43 N., R. 18 W.,

Sec. 15, a metes and bounds parcel within the SW¼NE¼.

The areas described aggregate 22.36 acres in Mesa, Montrose, and San Miguel Counties.

The BLM petition/application has been approved by the Assistant Secretary, Land and Minerals Management, therefore, it constitutes a withdrawal proposal of the Secretary of the Interior (43 CFR 2310.1-3(e)).

The use of a right-of-way, interagency agreement, cooperative agreement or surface management under 43 CFR part 3809 regulations would not adequately constrain non-discretionary uses that could irrevocably affect bat maternity roosts.

There are no suitable alternative sites, since the lands described contain the resources that need protection.

No water rights will be needed to fulfill the purpose of the withdrawal.

The potential for locatable minerals is considered to be low.

The purpose of the withdrawal is to preserve old mine workings on three small sites on public lands that contain a unique and favorable physical environment for maternity roosts of the Townsend's Big-eared Bat, currently designated as a sensitive species by the BLM in Colorado.

For a period of 90 days from the date of publication of this notice, all persons who wish to submit comments, suggestions, or objections in connection with the proposed withdrawal may present their views in writing to the BLM Colorado State Director at the address listed above.

Comments including names and street addresses of respondents, will be available for public review at the BLM Colorado State Office, during regular business hours, 7:45 a.m. to 4:15 p.m., Monday through Friday, except holidays. Individual respondents may request confidentiality. If you wish to withhold your name or address from public review or from disclosure under the Freedom of Information Act, you must state this prominently at the beginning of your comments. Such requests will be honored to the extent allowed by the law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request no later than May 24, 2007. Upon determination by the authorized officer that a public meeting will be held, a notice of the time, place, and date will be published in the Federal Register and a local newspaper at least 30 days before the scheduled date of the meeting.

This withdrawal proposal will be processed in accordance with the regulations set forth in 43 CFR part 2300.

For a period of 2 years from the date of publication of this notice in the Federal Register, the public lands and minerals will be segregated as specified above unless the application is denied or cancelled or the withdrawal is approved prior to that date.

Licenses, permits, cooperative agreements, or discretionary land use authorizations of a temporary nature which will not significantly impact the values to be protected by the withdrawal may be allowed with the approval of the authorized officer of the BLM during the segregative period.

Authority: 43 CFR 2310.3-1(a).

Dated: December 28, 2006.
John D. Beck,
Chief, Branch of Lands and Realty.

[FR Doc. E7-3085 Filed 2-22-07; 8:45 am]

BILLING CODE 4310-JB-P